DEPARTMENT OF TRANSPORTATION

Federal Aviation Administration

Approval of LaGuardia Airport (LGA) Noise Compatibility Program

AGENCY: Federal Aviation Administration, DOT.

ACTION: Notice of approval of the LaGuardia Airport (LGA) noise compatibility program.

SUMMARY: The Federal Aviation Administration (FAA) announces its findings for the noise compatibility program submitted by LGA, see supplementary information for details. On July 6, 2022 the FAA determined that the revised noise exposure maps submitted by LGA were in compliance with applicable requirements and that the noise compatibility program would be initiating final review for approval or disapproval. On December 15, 2022, the FAA approved the LGA noise compatibility program. The noise compatibility program contained 23 recommended measures, including eight noise abatement measures, three land use measures, and 12 program management measures. Of the measures proposed, 14 were approved, five were approved as voluntary, three were disapproved, and one was determined to have no FAA action. Five of the eight noise abatement procedures proposed at LGA are related to new or revised flight procedures.

DATES: The effective date of the FAA's approval of the LGA noise compatibility program is December 15, 2022.

FOR FURTHER INFORMATION CONTACT: Andrew Brooks, Regional Environmental Program Manager, Airports Division, Federal Aviation Administration, 1 Aviation Plaza, Room 516, Jamaica, NY 11434. Phone Number: 718-553-2511.

SUPPLEMENTARY INFORMATION: This notice announces FAA's approval of the noise compatibility program (NCP) for LGA, effective on December 15, 2022. Per United States Code section 47504 (49 U.S.C. 47504) and Title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airports recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of NCPs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the NCP are eligible for grant-in-aid funding from the FAA. Where federal funding is sought, requests must be submitted to the FAA New York Airports District Office at 1 Aviation Plaza, Room 111, Jamaica, New York 11434.

On June 15, 2022, the Port Authority of New York and New Jersey submitted to the FAA a revised “With Program” 2021 NEM, descriptions, and other documentation that were produced during the development of the “LaGuardia Airport Title 14 Code of Federal Regulations (CFR) Part 150 Noise Compatibility Program,” dated June 2022. The revised “With Program” 2021 NEM was submitted to show changes made to the LaGuardia Airport 2021 NEM previously accepted by the FAA on May 15, 2017 (Noise Exposure Map Notice for LaGuardia Airport, New York City, New York, volume 82, Federal Register, pages 22714-5, May 15, 2017). The revisions to the previously approved 2021 NEM depict changes to noise contours from implementation of noise abatement measures contained within the concurrent NCP submittal. It was requested that the FAA review this material as the NEM, as described in 49 U.S.C. 47503 of the Act, and that the noise mitigation measures, to be implemented jointly by the airport and surrounding communities, be approved as a NCP under 49 U.S.C. 47504. Notice of this NEM determination and intent to review the NCP was published in the Federal Register on July 11, 2022 (Notice of Acceptance of a Noise Exposure Map and Review of a Noise Compatibility Program, volume 87, Federal Register, pages 41160-2, July 11, 2022). That Federal Register Notice also announced the start of a 60-day period of public review for the NCP documentation. The FAA received no comments from interested parties during the public review period.

The LGA proposed NCP is comprised of actions designed for phased implementation by airport management and adjacent jurisdictions within the next one to five years. It was requested that the FAA evaluate and approve this material as a noise compatibility program as described in 49 U.S.C. 47504. The FAA began its review of the program on July 6, 2022 and was required by a provision of 49 U.S.C. 47504 to approve or disapprove the program within 180 days, other than the use of new or modified flight procedures for noise control. Failure to approve or disapprove such program within the 180-day period shall be deemed an approval of such program.

The submitted program contained 23 proposed measures to minimize impacts of aviation noise on and off the airport. The FAA completed its review and determined that the procedural and substantive requirements of the 49 U.S.C. 47504 and 14 CFR part 150 were satisfied. A Record of Approval for the overall program was issued by the FAA effective December 15, 2022.

The specific program elements and their individual determinations are as follows:

Noise Abatement (NA) Measure 1: Modify NTHNS and GLDMN Runway 13 RNAV SIDs to Direct Aircraft Away from Flushing, New York—Approved as Voluntary.

NA Measure 2: Create New Runway 13 Departure Procedure with an Immediate Left Turn over Compatible Land Uses—Disapproved.

NA Measure 3: Implement Offset Approach to Runway 22 to Reduce Noise Exposure Over Clason Point—Approved as Voluntary.

NA Measure 4: Reduce Runway 4 Departure Noise Over Clason Point—Approved as Voluntary.

NA Measure 5: Reduce Runway 13 Departures at Night—Approved as Voluntary

NA Measure 6: Implement Noise Abatement Departure Profiles on a Voluntary Basis for Runways 4 and 13—Disapproved for Purposes of Part 150.

NA Measure 7: Implement Nighttime Optimized Profile Descent Procedures—Disapproved for Purposes of Part 150.

NA Measure 8: Continue Existing Mandatory Departure Noise Limit—No Action.

Land Use (LU) Measure 1: Sound-Insulate Eligible Dwelling Units—Approved.

LU Measure 2: Sound-Insulate Eligible Non-Residential Noise—Sensitive Structures- Approved.

LU Measure 3: Include Aircraft Noise in Real Estate Disclosures—Approved.

Program Management (PM) Measure 1: Maintain Noise Office—Approved.

PM Measure 2: Maintain Noise and Operations Management System—Approved.

PM Measure 3: Maintain Public Flight Tracking Portal—Approved.

PM Measure 4: Maintain Noise Complaint Management System—Approved.

PM Measure 5: Maintain Noise Office website—Approved.

PM Measure 6: Continue Community Outreach Activities—Approved.

PM Measure 7: Establish and Manage a Fly Quiet Program—Approved as Voluntary.

PM Measure 8: Make Aircraft Noise Contours Available in a Geographic Information System (GIS)—Approved.

PM Measure 9: Update the Noise Exposure Map—Approved.

PM Measure 10: Update the Noise Compatibility Program—Approved.

PM Measure 11: Post Monthly Color-Coded DNL Values on Port Authority website—Approved.

PM Measure 12: The Port Authority to Coordinate with the FAA on Development and Implementation of NextGen Procedures—Approved.

These determinations are set forth in detail in the Record of Approval signed by the FAA Airports Eastern Division Director on December 15, 2022. The Record of Approval, as well as other evaluation materials and the documents comprising the submittal, are available for review at the FAA office listed above. The Record of Approval also will be available on the internet on the FAA's website at http://www.faa.gov/airports/environmental/airport_noise/part_150/states/ and the Port Authority of New York and New Jersey's website at http://panynjpart150.com/LGA_documents.asp.

Issued in Jamaica, NY, on December 16, 2022.
David A. Fish,
Director, Airports Division, Eastern Region.

[FR Doc. 2022-27702 Filed 12-20-22; 8:45 am]

BILLING CODE 4910-13-P